DEPARTMENT OF LABOR

Employment and Training Administration

Proposed Collection; Comment Request

ACTION: Notice.

SUMMARY: The Department of Labor, as part of its continuing effort to reduce paperwork and respondent burden, conducts a preclearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of collection of information for the Quantum Opportunity Program. A copy of the proposed information collection request (ICR) can be obtained by contacting the office listed below in the addressee section of this notice.

DATES: Written comments must be submitted to the office listed in the addressee's section below on or before November 20, 2001.

ADDRESSES: Eileen Pederson, U.S. Department of Labor, Employment and Training Administration/Office of Policy and Research, Rm. N-5637, 200 Constitution Avenue, NW., Washington, DC 20210, 202/693-3647 (this is not a toll-free number), epederson@doleta.gov.

SUPPLEMENTARY INFORMATION:

I. Background

The Quantum Opportunity Program (QOP) Demonstration was jointly sponsored by the Ford Foundation and the Department of Labor, with support from the Department of Justice, to test a promising program to help academically at-risk youth prepare for long-term, stable employment. The demonstration targeted academically at-risk youth in schools with significant dropout rates in seven urban and rural cities. The youth enrolled in high school in 1995 (youth in one site enrolled in 1996) and were randomly assigned to either the control group or the treatment group, with the youth in the latter group able to participate in the program throughout high school. The primary focus of the program was to keep them in school through high school graduation and help them take the necessary steps for more advanced training or education. Specific services included intensive educational, life skills, and community services activities and support from an adult mentor.

ETA awarded a contract to Mathematica Policy Research, Inc. to conduct a net impact evaluation of the program. The evaluation currently will measure high school performance and completion, post-secondary enrollment and criminal and anti-social behavior up to five months after scheduled high school graduation. The evaluation will also analyze the benefits to society compared to the program's cost. This information collection was approved under OMB No. 1205-0397, which is due to expire on November 30, 2001. This request is for an extension of the previously granted OMB clearance to collect data beyond the current expiration date of the clearance. The extension is necessary to collect data approximately 72 months after random assignment of the youth.

The data will be used to examine the effects of this program on participants' outcomes six years after random assignment into QOP. Mathematica will also assess the subsequent outcomes of comparable youth randomly assigned to the control group. This additional data collection will offer supporting evidence in ETA's quest to “ensure that our youth workforce training programs have a strong educational component, since income and opportunities increase exponentially with education credentials.”

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval of an extension of an existing information collection for the QOP Demonstration funded by the Department of Labor with support from the Department of Justice. Information in the form of the previously approved follow-up phone or in-person survey will be collected from all youth in the research sample approximately 72 months following their initial assignment to the program or control groups. The survey data will be utilized to analyze the impact of the QOP on participants' outcomes including education and training, employment, earnings, public assistance participation, childbearing, and other behaviors and activities.

The findings will be directly relevant for the future development of employment and training policy for youth.

Type of Review: Extension.

Agency: Employment and Training Administration.

Title: Quantum Opportunity Program Demonstration Follow-up Survey.

OMB Number: 1205-0397.

Affected Public: Individuals.

Cite/Reference/Form/etc.: Quantum Opportunity Program Demonstration Evaluation follow-up survey.

Total Respondents: 1,074.

Frequency: Once (during period of extension, total of 2 times).

Total Responses: 860 (during period of extension).

Average Time per Response: 20 minutes (during extension).

Estimated Total Burden Hours: 287 hours (during extension).

Total Burden Cost (capital/startup): $0.

Total Burden Cost (operating/maintaining): $0.

Comments submitted in response to this comment request will be summarized and/or included in the request for Office of Management and Budget approval of the information collection request; they will also become a matter of public record.

Dated: September 14, 2001.
Gerard F. Fiala,
Administrator.

[FR Doc. 01-23557 Filed 9-20-01; 8:45 am]

BILLING CODE 4510-30-M